DEPARTMENT OF THE INTERIOR

Bureau of Land Management

[LLNML03110 L14400000.ER0000 19XL1109AF]

Notice of Availability of the Copper Flat Copper Mine Final Environmental Impact Statement, Sierra County, New Mexico

AGENCY: Bureau of Land Management, Interior.

ACTION: Notice of availability.

SUMMARY: In accordance with the National Environmental Policy Act of 1969, as amended, and the Federal Land Policy and Management Act of 1976, as amended, the Bureau of Land Management (BLM) has prepared a Final Environmental Impact Statement (Final EIS) for the Copper Flat Copper Mine, and by this notice is announcing its availability.

DATES: The BLM will not issue a final decision on the proposal for a minimum of 30 days after the date that the Environmental Protection Agency publishes its Notice of Availability in the Federal Register.

ADDRESSES: Copies of the Copper Flat Copper Mine Final EIS are available for public inspection at the BLM Las Cruces District Office at 1800 Marquess Street, Las Cruces, NM 88005; the public library in Hillsboro, New Mexico, at 158 Elenora Street; and the public library in Truth or Consequences, New Mexico, at 325 Library Lane. Interested persons may also review the Final EIS at https://eplanning.blm.gov/epl-front-office/eplanning/planAndProjectSite.do?methodName=renderDefaultPlanOrProjectSite&projectId=75353&dctmId=0b0003e880e8ce0d.

FOR FURTHER INFORMATION CONTACT: Leighandra Keeven, BLM geologist, at 575-525-4337; 1800 Marquess Street, Las Cruces, NM 88005; or lkeeven@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Copper Flat Copper Mine is the proposed reestablishment of a poly-metallic mine and processing facility located near Hillsboro, New Mexico. The Proposed Action would consist of an open pit mine, flotation mill, tailings impoundment, waste rock disposal areas, a low-grade ore stockpile, and ancillary facilities. In most respects, the facilities, disturbance, and operations would be similar to the former operation. The project is owned and operated by the New Mexico Copper Corporation (Copper Corporation), a wholly-owned subsidiary of THEMAC Resources Group Limited. The Copper Flat Project (Project) is composed of 963 acres of private land and 1,227 acres of public land, for a total of 2,190 acres.

The Proposed Action was submitted by the Copper Corporation to the BLM in June 2011 in the form of a Mine Plan of Operations that was based upon the plan of development that Quintana Mineral Corporation used in the previous operation of Copper Flat mining activities in 1982. The Proposed Action included upgrades and modifications based on current engineering designs and regulations and was intentionally developed to re-use the existing foundations, production wells, and water pipeline that were employed by the previous Quintana operation. Four alternatives are analyzed: No Action, Proposed Action, Alternative 1, and Alternative 2. The Preferred Alternative (Alternative 2) is different than the Proposed Action, as it proposes processing more ore at a faster rate, therefore, shortening the mine life of the Project.

The Proposed Action for the Project would process 17,500 tons per day of copper ore over a mine operations period of 16 years, resulting in 100 million tons of ore processed over the mine life. Alternative 1 would process 25,000 tons per day of copper ore over a mine operations period of 11 years, resulting in 103 million tons of ore processed over the mine life. Alternative 2 would process 30,000 tons per day of copper ore over a mine operations period of 12 years, resulting in 125 million tons of ore processed over the mine life.

The BLM prepared the Draft EIS in conjunction with its four cooperating agencies: The New Mexico Department of Game and Fish; New Mexico Environment Department; New Mexico Energy, Minerals and Natural Resources Department; and New Mexico Office of the State Engineer.

Authority: 40 CFR 1506.6, 40 CFR 1506.10.

Timothy R. Spisak,
BLM New Mexico State Director.

[FR Doc. 2019-07887 Filed 4-18-19; 8:45 am]

BILLING CODE 4310-FB-P